DEPARTMENT OF THE INTERIOR

Bureau of Land Management

[CA-680-1430-ES; CALA 0165216]

Renewal of Airport Lease for the Baker Airport, Baker, CA

AGENCY: Bureau of Land Management, (BLM) Interior.

ACTION: Notice of Realty Action.

SUMMARY: Notice is given that the County of San Bernardino has filed an application to renew its airport lease CALA 0165216 for a twenty-year period. The application was filed pursuant to the Act of May 24, 1928, as amended and the regulations at 43 CFR 2911. This airport is located on public lands within the California Desert District, Barstow Field Office, California. In accordance with 43 CFR 2911.2-3, a Notice of Realty Action shall be issued for a 45-day comment period from the public.

DATES: Submit comments on or before July 7, 2003.

ADDRESSES: Mail written comments to the BLM, Attn: Realty Section, 2601 Barstow Road, Barstow, CA, 92311.

FOR FURTHER INFORMATION CONTACT: Joan Patrovsky, Barstow Field Office Manager, Bureau of Land Management, 2601 Barstow Road, Barstow, CA 92311; or call (760) 252-6032.

SUPPLEMENTARY INFORMATION: The described public lands:

San Bernardino Meridian, CA

T.14 N., R. 8 E., Sec. 24, W ½ NE ¼ and SE ¼.

Containing a total of 240 acres.

The San Bernardino County Department of Airports, a County government agency, has filed an application to renew the lease of the above-described public lands. The land is located approximately 65 miles northeast of Barstow, CA, in the small unincorporated community of Baker, CA, which is situated adjacent to Interstate 15.

The Department of Airports proposes to continue use of the land for general aviation public use that supports the needs of the community, serves as an emergency airfield for pilots transiting the area between Las Vegas, Nevada, and the southern coastal basin area of Southern California, and provides a vital public safety role for law enforcement and emergency ambulance flights. Renewal of the lease will allow these services and needs to continue.

Until July 7, 2003, interested persons may submit comments, regarding the proposed lease of the lands, to the Field Manager, Barstow Field Office, 2601 Barstow Road, Barstow, CA 92311, (760) 252-6000. The Barstow Field Manager will review any adverse comments. In the absence of any adverse comments, a lease may be issued upon completion of the 45 day comment period.

Dated: April 8, 2003.
Duane Marti,
Acting Chief, Branch of Lands Management.

[FR Doc. 03-12521 Filed 5-19-03; 8:45 am]

BILLING CODE 4310-40-P